DEPARTMENT OF VETERANS AFFAIRS

Advisory Committee on Women Veterans, Notice of Meeting

The Department of Veterans Affairs (VA) gives notice under the Federal Advisory Committee Act, 5 U.S.C. App. 2, that the Advisory Committee on Women Veterans (Committee) will conduct a site visit on September 19-23, 2016, in San Diego, CA. Sessions are open to the public, except when the Committee is conducting tours of VA facilities, participating in off-site events, and participating in workgroup sessions. Tours of VA facilities are closed, to protect Veterans' privacy and personal information, in accordance with 5 U.S.C. 552b(c)(6). The site visit will also include a town hall meeting for women Veterans and those who provide services to women Veterans.

The purpose of the Committee is to advise the Secretary of Veterans Affairs regarding the needs of women Veterans with respect to health care, rehabilitation, compensation, outreach, and other programs and activities administered by VA designed to meet such needs. The Committee makes recommendations to the Secretary regarding such programs and activities.

On Monday September 19, the Committee will convene an open session at the San Diego VA Medical Center, 3350 La Jolla Village Drive, San Diego, CA 92161, in Conference Room 1 (4E), from 8:30 a.m. to 4:00 p.m. The agenda will include overview briefings from the San Diego VA Medical Center leadership on the facilities, programs, demographics, women Veterans programs, the transition program, suicide prevention program, mental health, military sexual trauma, homeless Veteran program, caregiver support, telehealth, One VA, and Veterans Choice.

On Tuesday September 20, the Committee will convene closed sessions, as it tours the San Diego VA Medical Center, and the Mission Valley Clinic, 8810 Rio San Diego Drive, San Diego, CA 92108.

On Wednesday September 21, the Committee will convene a closed session, as it attends the Department of Veterans Affairs' National Veterans Summer Sports Clinic, hosted by the San Diego VA Medical Center. For information on the National Veterans Summer Sports Clinic, please visit www.va.gov/opa/speceven/ssc/.

On Thursday September 22, the Committee will convene a closed session, as it tours the San Diego VA Regional Benefit Office, 8810 Rio San Diego Drive, San Diego, CA 92108; the Fort Rosecrans National Cemetery, Cabrillo Memorial Drive, San Diego, CA 92106; and the Miramar National Cemetery, 5795 Nobel Drive, San Diego, CA 92122.

In the morning of September 23, the Committee will convene an open session at the San Diego Marriot La Jolla, 4240 La Jolla Village Drive, La Jolla, CA 92037, with San Diego VA Medical Center leadership, followed by a town hall meeting with the women Veterans and other stakeholders. The town hall meeting will begin at 10 a.m. and end promptly at noon. In the afternoon of September 23, the Committee will reconvene a closed session, to discuss Committee business, participate in workgroup discussions, and other administrative matters.

With the exception of the town hall meeting, there will be no time for public comment during the meeting. Members of the public may submit written statements for the Committee's review to 00W@mail.va.gov, or by fax at (202) 273-7092. Any member of the public wishing to attend or seeking additional information should contact Shannon L. Middleton at (202) 461-6193.

Dated: August 23, 2016.
Jelessa M. Burney,
Federal Advisory Committee Management Officer.

[FR Doc. 2016-20479 Filed 8-25-16; 8:45 am]

BILLING CODE P